DEPARTMENT OF THE INTERIOR

National Park Service

[NPS-WASO-NRNHL-DTS#-31362; PPWOCRADI0, PCU00RP14.R50000]

National Register of Historic Places; Notification of Pending Nominations and Related Actions

AGENCY: National Park Service, Interior.

ACTION: Notice.

SUMMARY: The National Park Service is soliciting electronic comments on the significance of properties nominated before January 9, 2021, for listing or related actions in the National Register of Historic Places.

DATES: Comments should be submitted electronically by February 8, 2021.

ADDRESSES: Comments are encouraged to be submitted electronically to National_Register_Submissions@nps.gov with the subject line “Public Comment on “property or proposed district name, (County) State.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before January 9, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Broadmoor Historic District, Residential subdivision south of Broadway Blvd. between Tucson Blvd. and Country Club Rd., Tucson, SG100006151

ARKANSAS

Washington County

Rieff's Chapel Cemetery, West Pear Ln., Fayetteville, SG100006153

IOWA

Polk County

Elmwood, The- The Oaks-The Birches, 2315 Grand Ave., Des Moines, SG100006155

KENTUCKY

Jefferson County

Hertel Pharmacy, 2565-2567 Bank St., Louisville, SG100006154

OHIO

Ashland County

Arthur Street School, 416 Arthur St., Ashland, SG100006147

Cuyahoga County

Midtown Historic District, Perkins (south side), Chester, Euclid, Prospect, and Carnegie (north side) Aves., roughly between I-90, East 27th, East 40th and East 55th Sts., Cleveland, SG100006160

Fulton County

Fulton Lodge No. 248, 401 ½ Main St., Delta, SG100006149

Union County

Partridge, Reuben L. House 245 West 7th St., Marysville, SG100006161

Van Wert County

Convoy Opera House-City Hall-Firehouse Building, 111 South Main St., Convoy, SG100006162

Wood County

Risingsun Town Hall and Opera House, 420 Main St., Risingsun, SG100006150

PENNSYLVANIA

Perry County

Clark's Ferry Tavern, 603 North Market St., Duncannon, SG100006148

PUERTO RICO

Arecibo Municipality

Franklin Delano Roosevelt Graded School, (Puerto Rico Reconstruction Administration MPS), Calle Oriente No. 218, Arecibo vicinity, MP100006152

VIRGINIA

Botetourt County

Glencoe, 1088 Poor Farm Rd., Fincastle vicinity, SG100006157

Hanover County

Macmurdo House, 713 South Center St., Ashland, SG100006158

Lynchburg Independent City

DeWitt-Wharton Manufacturing Company, 1701 12th St., Lynchburg, SG100006156

Prince William County

Mount Pleasant Baptist Church and Cemetery, 15008 Lee Hwy., Gainesville, SG100006159

Authority: Section 60.13 of 36 CFR part 60.

Dated: January 12, 2021.
Sherry A. Frear,
Chief, National Register of Historic Places/National Historic Landmarks Program.

[FR Doc. 2021-01336 Filed 1-21-21; 8:45 am]

BILLING CODE 4312-52-P